DEPARTMENT OF HEALTH AND HUMAN SERVICES

Indian Health Service

Funding Opportunity for Indians Into Psychology (InPsy)

Announcement Type: New.

Funding Announcement Number: HHS-2024-IHS-INPSY-0001.

Assistance Listing (Catalog of Federal Domestic Assistance or CFDA) Number: 93.970.

Key Dates

Application Deadline Date: May 14, 2024.

Earliest Anticipated Start Date: July 1, 2024.

I. Step 1: Review the Opportunity

Funding Details

Type: Cooperative Agreement.

Competition type: New.

Expected total program funding: $805,932.

Expected number of awards: 3.

Funding range per award for the first budget year: $227,500 to $267,500.

The period of performance is for 5 years.

Continuation funding depends on the availability of funds and agency budget priorities.

Eligibility—Who can apply?

Eligible Applicants

Only the following type of organizations are eligible for this opportunity:

Public and nonprofit private colleges and universities that offer a Ph.D. or Psy.D. in clinical programs accredited by the American Psychological Association will be eligible to apply for a cooperative agreement under this announcement.

We will notify any applicants we determine to be ineligible.

Eligibility Exceptions

1. Individuals including sole proprietorships and foreign organizations are not eligible.

2. We do not fund concurrent projects under this program. If you get an award under this announcement, we cannot later fund you under other InPsy programs while this award is active.

Other Eligibility Criteria

All schools and training programs must have current, unrestricted accreditation by the American Psychological Association (APA). All institutions must be fully accredited without restrictions at the time of application.

See attachments for information you will submit to prove your eligibility.

Cost Sharing or Matching

This program has no cost-sharing requirement.

If you choose to include cost-sharing funds, we will not consider it during our review. However, we will hold you accountable for any funds you add, including through reporting.

Program Description

Background

The Indian Health Service (IHS) is responsible for providing federal health services to the American Indian and Alaska Native (AI/AN) people. Our mission is to raise the physical, mental, social, and spiritual health of American Indians and Alaska Natives to the highest level.

The Indian Healthcare Improvement Act (https://www.ihs.gov/IHCIA/) authorizes the IHS to administer programs designed to attract and recruit qualified Indians into health professions to ensure the availability of health professionals to serve the AI/AN population.

Purpose

Our purpose is to increase the number of Indian clinical psychologists who deliver health care services to AI/AN communities. Our primary objectives are to:

1. Recruit and train Indian people to be clinical psychologists;

2. Provide stipends to people enrolled in schools of clinical psychology to pay tuition, books, fees, and stipends for living expenses.

Required Activities

1. You must develop and maintain psychology education programs and recruit people to become clinical psychologists who will provide services to AI/AN people.

2. You must provide scholarship grants to AI/AN students enrolled in clinical psychology education programs.

3. Scholarship awards are for a one-year period.

4. You may award additional stipend support to each eligible student for up to four years.

See the project narrative and merit review sections for more detail on activities.

Cooperative Agreement Terms

Cooperative agreements use the same policies as grants. The difference is that the IHS will have substantial involvement in the project during the entire period of performance. Below is a detailed description of our level of involvement.

The IHS program official will:

• Work closely with your program director to ensure timely management and that you meet all goals and objectives of your proposed project.

• Provide American Indians into Psychology scholarship materials and policies for student program reviews.

• Initiate default proceedings within 90 days after receiving your notification that a student:

1. has been dismissed from the program;

2. has withdrawn from school;

3. failed to graduate with a Psy.D. in Clinical Psychology;

4. failed to begin a required period of supervised clinical hours required for state licensure;

5. failed to meet the minimum required number of supervised clinical hours prior to licensure;

6. failed to get licensed and begin obligated service time within 90 days; or

7. failed to complete the service.

• Receive your required semi-annual progress reports and review them for program compliance.

• Provide you with programmatic technical assistance, as requested.

• Coordinate and conduct site visits and periodic conference calls with you and students as time and budget permit.

• Work in partnership with the Division of Grants Management.

Funding Policies and Limitations

Limitations

• We allow pre-award costs up to 90 days before the start date of the award if the costs are otherwise allowable if awarded. You incur pre-award costs at your organization's risk.

Policies

• Total award funds include both direct and indirect costs.

• Each applicant can receive only one award.

• You may include, as a direct cost, tuition and student support for students selected to receive a scholarship under your program. Scholarship support is full-time tuition, fees, books, and other expenses. This includes uniforms and monthly stipends for living expenses for 12 months. The current stipend is to be $1,500 per month.

Indirect Costs

Indirect costs are those incurred for a common or joint purpose across more than one project and that cannot be easily separated by project. Learn more at 45 CFR 75.414 (https://www.ecfr.gov/current/title-45/subtitle-A/subchapter-A/part-75/subpart-E/subject-group-ECFR1eff2936a9211f7/section-75.414), Indirect Costs.

Indirect costs for training awards cannot exceed 8 percent of modified total direct costs. To understand what is included in modified total direct costs, see 45 CFR 75.2 (https://www.ecfr.gov/current/title-45/subtitle-A/subchapter-A/part-75#p-75.2(Modified%20Total%20Direct%20Cost)).

Statutory Authority

The Snyder Act, 25 U.S.C. 13; the Transfer Act, 42 U.S.C. 2001(a); and section 217 of the Indian Health Care Improvement Act, Public Law 94-437, as amended (IHCIA), codified at 25 U.S.C. 1621p (https://www.govinfo.gov/content/pkg/USCODE-2022-title25/html/USCODE-2022-title25-chap18-subchapII-sec1621p.htm).

II. Step 2: Get Ready To Apply

Get Registered

System for Award Management

You must have an active account with SAM.gov. This includes having a Unique Entity Identifier. SAM.gov registration can take several weeks. Begin that process today. To register, go to SAM.gov Entity Registration (https://sam.gov/content/entity-registration) and click Get Started. From the same page, you can also click on the Entity Registration Checklist for the information you will need to register.

Grants.gov

You must also have an active account with Grants.gov (https://grants.gov/home). You can see step-by step instructions at the Grants.gov Quick Start Guide for Applicants (https://www.grants.gov/quick-start-guide/applicants).

Find the Application Package

The application package has all the forms you need to apply. You can find it online. Go to Grants Search at Grants.gov (https://grants.gov/home) and search for opportunity number HHS-2024-IHS-INPSY-0001.

III. Step 3: Write Your Application

Application Contents and Format

Applications include five main components. This section includes guidance on each. Make sure you include each of these:

Component | Submission form
Project Abstract | Use the Project Abstract Summary form.
Project Narrative | Use the Project Narrative Attachment form.
Budget Narrative | Use the Budget Narrative Attachment form.
Attachments | Insert each in a single Other Attachments form.
Required Forms | Upload using each required form.

Project Abstract

Page limit: 1 page.

Provide a self-contained summary of your proposed project, including the purpose and expected outcomes. Do not include any proprietary or confidential information. We use this information when we receive public information requests about funded projects.

Required format for Project and Budget Narrative:

Font size: 12-point font. Footnotes, tables, and text in graphics may be 10-point.

Font color: black.

Spacing: Single-spaced.

Margins: 1-inch.

Size: 8.5 by 11 inches.

Include consecutive page numbers.

Formats: While the forms for project and budget narratives are PDF, you may upload Word, Excel, or PDF files to those forms.

Project Narrative

Page limit: 25 pages.

Filename: Project narrative.

To create your project narrative:

• Follow the headings in the table below in order.

• Use the merit review criteria to determine what you need to include.

• Describe your proposed project and activities for the full period of performance.

• Stay within the page limit, or we will remove pages beyond that. We recommend some page limits for subsections below, but they are guidance only.

Heading | Recommended page length
Introduction and need for assistance | 5
Project objectives, work plan, and approach | 10
Program evaluation | 5
Organization capabilities, key personnel, and qualifications | 5

Budget Narrative

Page limit: 5.

Filename: Budget narrative.

The budget narrative supports the information you provide in Standard Form 424-A. See standard forms.

For more guidance on what to include in your budget narrative, see merit review criteria.

It includes added detail and justifies the costs you ask for. As you develop your budget, consider:

• If the costs are reasonable and consistent with your project's purpose and activities.

• The restrictions on spending funds. See funding limitations.

To create your budget narrative:

• Review the requirements in the merit review section for more detail.

• Show each line item in your SF-424A, organized by budget category.

• Provide the information for the entire period of performance, broken down by year.

• For each line item, describe:

1. How the costs support achieving the project's proposed objectives.

2. How you calculated or arrived at the cost.

• Take care to explain each item in the “other” category and why you need it.

• Do not use the budget narrative to expand your project narrative.

If you like, you can also include a spreadsheet that provides more detail than in the SF-424A. If you do, we will not count it against the page limit.

Attachments

You will upload attachments in Grants.gov using a single Other Attachments Form. Unless stated below, these attachments do not have page limits.

Proof of Accreditation

Submit proof of program accreditation from an accreditation agency recognized by the U.S. Department of Education or the nonprofit Council for Higher Accreditation (CHEA) and American Psychology Association (APA) and the Commission of Accreditation (CoA).

Work Plan Chart

Attach a one-page work plan chart or timetable that summarizes the work plan in your project description, outlining your activities and outcomes. See merit review criteria for detailed instructions.

Proof of Nonprofit Status

If your organization is a nonprofit, you need to attach proof. We will accept any of the following:

• A copy of a current tax exemption certificate from the IRS.

• A letter from your state's tax department, attorney general, or another state official saying that your group is a nonprofit and that none of your net earnings go to private shareholders or others.

• A certified copy of your certificate of incorporation. This document must show that your group is a nonprofit.

• Any of the above for a parent organization. Also include a statement signed by an official of the parent group that your organization is a nonprofit affiliate.

Indirect Cost Agreement

If you include indirect costs in your budget using an approved rate, include a copy of your current agreement approved by your cognizant agency for indirect costs (https://www.ecfr.gov/current/title-45/subtitle-A/subchapter-A/part-75#p-75.2(Cognizant%20agency%20for%20indirect%20costs). If you use the de minimis rate, you do not need to submit this attachment.

Resumes and Position Descriptions

For key personnel, attach biographical sketches for filled positions. If a position is not filled, attach a short description of the position and qualifications. See additional instructions in merit review criteria.

Audit Documentation

You must provide documentation of required audits. You can submit:

• Email confirmation from the Federal Audit Clearinghouse (FAC) showing that you submitted the audits.

• Face sheets from audit reports. You can find these on the FAC website (https://www.fac.gov/).

See audit requirements at 45 CFR part 75 subpart F (https://www.ecfr.gov/current/title-45/subtitle-A/subchapter-A/part-75/subpart-F).

Standard Forms

You will need to complete some standard forms. Upload the standard forms listed below at Grants.gov. You can find them in the NOFO application package or review them and their instructions at Grants.gov Forms.

Forms | Submission requirement
Application for Federal Assistance (SF-424) | With application.
Budget Information for Non-Construction Programs (SF-424A) | With application.
Grants.gov Lobbying Form | With application.
Disclosure of Lobbying Activities (SF-LLL) | If applicable, with the application.

IV. Step 4: Learn About Review and Award

Application Review

Initial Review

We review each application to make sure it meets basic requirements. We will not consider an application that:

• Is from an organization that does not meet all eligibility criteria.

• Is incomplete.

• Requests funding above the award ceiling shown in the funding range.

• Requests a period of performance longer than this NOFO allows.

• Is submitted after the deadline.

• Also, we will not review any pages over the page limit.

Merit Review

The review committee reviews all applications that pass the initial review. The members use the criteria below.

We will send your authorized official an Executive Summary Statement within 30 days after we complete reviews. This statement will outline the strengths and weaknesses of your application.

Criteria

The panel will assess the quality of your responses and soundness of your approaches to the following project narrative sections.

Criterion | Total number of points = 100
1. Introduction and need for assistance | 10
2. Project objectives, work plan, and approach | 40
3. Program evaluation | 30
4. Organizational capabilities, key personnel, and qualifications | 15
5. Support Requested | 5

1. Introduction and Need for Assistance

Maximum Points: 10

a. Present the comprehensive framework of your proposed program.

b. Include the purpose and background of your program.

c. Justify the need for your project and clearly describe the unmet AI/AN psychology workforce needs in AI/AN communities.

d. Describe the social determinants and health disparities that impact AI/AN communities and how your proposed program will serve the IHS and Tribal health care programs as well as provide support to IHS scholarship recipients.

e. Discuss how these social determinants have historically affected access to AI/AN health care and have impacted AI/AN student's access to education, specifically psychology education.

f. Demonstrate your program's substantial benefit to Indian health programs.

2. Project Objectives, Work Plan, and Approach

Maximum Points: 40

a. Project objectives

1. State specific objectives of the project, and the extent to which they are measurable and quantifiable, logical, complete, and consistent with the purpose of this NOFO.

2. All universities and colleges currently participating and submitting competing continuation proposals must include new objectives for this project period.

b. Work plan

1. In your attachments, include a work plan chart, with timelines, that describes fully and clearly how you will complete your proposed activities.

c. Approach

1. Recruiting students—You must describe:

a. Your plan for outreach and recruitment for health professions to Indian communities including elementary and secondary schools as well as accredited and accessible community colleges.

b. How you will provide summer enrichment programs to expose Indian students to the various fields of psychology through research, clinical, and experimental activities.

c. Your process for advertising, selecting, and notifying scholarship students.

d. How you will encourage AI/AN clinical psychologists at the graduate and undergraduate level.

2. Training and supporting student success—You must describe how you will:

a. Provide support services to psychology students to facilitate their success in the clinical psychology program as well as track their progress.

b. Collect students' BIA-4437 forms to verify whether students receiving tuition support in their program are members of eligible, federally recognized Tribes.

c. Assist the clinical psychologist with job placement at eligible Indian health sites and track their payback status to ensure they fulfill their service obligation.

d. Provide your students with clinical rotation in AI/AN health programs.

e. Provide stipends to undergraduate and graduate students to pursue a career in psychology.

f. Use existing university tutoring, counseling, and student support services, to the maximum extent feasible.

g. Provide career counseling, academic advice, plans to correct academic deficiencies, and other activities to assist student retention.

h. Educate and train students in opioid addiction prevention, treatment, and recovery. Addressing the opioid crisis is a Health and Human Services (HHS) priority.

i. Increase the skills of and provide continuing education to clinical psychologists at the graduate and undergraduate level who deliver health services to the AI/AN population.

j. Provide mechanisms and resources to increase psychology student enrollment, retention, and graduation.

3. Oversight and collaboration—You must describe how you will:

a. Incorporate a program advisory board comprised of representatives from the Tribes and communities you plan to serve.

b. Develop affiliation agreements with tribal colleges and universities, the IHS, university-affiliated programs, and other appropriate accredited and accessible entities to enhance the education of Indian students.

c. Employ qualified Indians in the program to the maximum extent feasible.

3. Program Evaluation

Maximum Points: 30

a. Present a plan for evaluating success in carrying out the project on routine basis and in an annual quantitative and qualitative evaluation of the year's activities.

b. Identify how you will adequately document project objectives and identify what areas need improvement.

c. Demonstrate the detailed steps and timeline to effectively achieve your proposed methodology and evaluation plan.

d. Identify how the program director will meet with other program directors and staff each year to share best practices, successes, and challenges.

e. Describe your organization's significant program activities and accomplishments over the past five years associated with the goals of this announcement.

1. Provide a comparison of the actual program accomplishments to the goals established for the project period, or, if applicable, provide justification for the lack of progress.

2. Identify and summarize major project activities during the project period to improve the management of the grant program.

4. Organizational Capabilities, Key Personnel, and Qualifications

Maximum Points: 15

a. Provide an organizational chart and describe your administrative, managerial, and organization arrangements and the facilities and resources you will use to conduct your proposed project.

b. List the key personnel who will work with the program. In your attachments, submit position descriptions and resumes of program director and key staff with duties and experience.

c. Explain who will write your progress reports.

d. Identify your experience with other similar projects, including the results of those projects.

e. Provide evidence of your past or potential cooperation and experience with AI/AN communities and Tribes.

5. Budget and Budget Justification

Maximum Points: 5

a. Clearly define the budget in your Budget Information for Non-Construction Programs (SF-424A).

b. In the Budget Narrative Form, provide a justification and detailed breakdown of the funding by category for the first year of the project.

1. In your information about the program director and project staff, include salaries and percentage of time assigned to the award.

2. List equipment purchases necessary to conduct the project.

Risk Review

Before making an award, we review the risk that you will not prudently manage federal funds. We need to make sure you've handled any past federal awards well and demonstrated sound business practices. We use SAM.gov Responsibility/Qualification (https://sam.gov/content/entity-information) to check this history for all awards likely to be over $250K. You can comment on your organization's information in SAM.gov. We will consider your comments before making a decision about your level of risk. If we find a significant risk, we may choose not to fund your application or to place specific conditions on the award.

For more details, see 45 CFR 75.205 (https://www.ecfr.gov/current/title-45/subtitle-A/subchapter-A/part-75/subpart-C/section-75.205).

Selection Process

When making funding decisions, we consider:

• Merit review results. These are key in making decisions but are not the only factor.

• The larger portfolio of agency-funded projects, including the diversity of project types and geographic distribution.

• The past performance of the applicant. We may choose not to fund applicants with management or financial problems.

We may:

• Fund applications in whole or in part.

• Fund applications at a lower amount than requested.

• Decide not to allow a prime recipient to subaward if they may not be able to monitor and manage subrecipients properly.

• Choose to fund no applications under this NOFO.

Award Notices

After we review and select applications for award, we will let you know the outcome.

Unsuccessful Applications

We will email you or write you a letter if your application is disqualified or unsuccessful.

Approved but Unfunded Applications

It is possible that we could approve your application, but do not have enough funds to reach it. If so, we will hold your application for one year. If funding becomes available during the year, we may reconsider funding.

Approved Applications

If you are successful, we will create a Notice of Award (NoA). You will need a GrantSolutions user account (https://www.grantsolutions.gov/home/getting-started-request-a-user-account/) to retrieve your NoA.

The NoA is the only official award document. The NoA tells you about the amount of the award, important dates, and the terms and conditions you need to follow. Until you receive the NoA, you do not have permission to start work.

V. Step 5: Submit Your Application

Application Submission and Deadlines

See find the application package to make sure you have everything you need.

Make sure you are current with SAM.gov and UEI requirements. See get registered (https://sam.gov/content/entity-registration). You will have to maintain your registration throughout the life of any award.

Application Deadline

You must submit your application by May 14, 2024, at 11:59 p.m. ET.

Grants.gov creates a date and time record when it receives the application. If you submit the same application more than once, we will accept the last on-time submission.

The grants management officer may extend an application due date based on emergency situations such as documented natural disasters or a verifiable widespread disruption of electric or mail service.

Application Submission

You must submit your application through Grants.gov. See get registered (https://sam.gov/content/entity-registration).

For instructions on how to submit in Grants.gov, see the Quick Start Guide for Applicants (https://www.grants.gov/quick-start-guide/applicants). Make sure that your application passes the Grants.gov validation checks or we may not get it. Do not encrypt, zip, or password protect any files. The link above will also help you learn how to create PDFs. See contacts & support if you need help.

Exemptions

If you cannot submit through Grants.gov, you must request a waiver before the application due date. Send your waiver request to DGM@ihs.gov. Include clear justification for the need to deviate from the required application submission process. Failure to register in SAM.gov or Grants.gov in a timely way is not cause for a waiver. We will not accept applications outside of Grants.gov without an approved waiver.

We will email you if we approve your waiver. This notification will include submission instructions. If approved, we must receive your application by 5:00 p.m. ET on the application deadline.

Other Submissions

Intergovernmental Review

This NOFO is not subject to executive order 12372, Intergovernmental Review of Federal Programs. No action is needed.

Mandatory Disclosure

You must submit any information related to violations of federal criminal law involving fraud, bribery, or gratuity violations potentially affecting the federal award. See Mandatory Disclosures, 45 CFR 75.113 (https://www.ecfr.gov/current/title-45/subtitle-A/subchapter-A/part-75/subpart-B/section-75.113).

Send written disclosures to IHS at DGM@ihs.gov and to the Office of Inspector General at grantdisclosures@oig.hhs.gov. Include “Mandatory Grant Disclosures” in subject line.

Application Checklist

Make sure you have everything you need to apply:

Component | How to upload | Page limit
☐ Project Abstract | Use the Project Abstract Summary form | 1 page
☐ Project Narrative | Use the project Narrative Attachment form | 25 pages
☐ Budget Narrative | Use the Budget Narrative Attachment form | 5 pages
Attachments | Insert each in a single Other Attachments form.
☐ Tribal resolution |  | None
☐ Work plan chart |  | 1 page
☐ Proof of nonprofit status |  | None
☐ Indirect cost agreement |  | None
☐ Resumes and position descriptions |  | None
☐ Letter of support |  | None
☐ Audit documentation |  | None
Other Required Forms (3 total) | Upload using each required form
☐ Application for Federal Assistance (SF-424) |  | None
☐ Budget Information for Non-Construction Programs (SF-424A) |  | None
☐ Grants.gov Lobbying Form |  | None
☐ Disclosure of Lobbying Activities (SF-LLL) |  | None

VIII. Step 6: Learn What Happens After Award

Post-Award Requirements and Administration

Administrative and National Policy Requirements

There are important rules you need to know if you get an award. You must follow:

• All terms and conditions in the Notice of Award.

• The regulations listed in 45 CFR part 75, Uniform Administrative Requirements, Cost Principles, and Audit Requirements for HHS Awards (https://www.ecfr.gov/current/title-45/subtitle-A/subchapter-A/part-75).

• The HHS Grants Policy Statement (GPS) (https://www.hhs.gov/sites/default/files/grants/grants/policies-regulations/hhsgps107.pdf). This document has terms and conditions tied to your award. If there are any exceptions to the GPS, they will be listed in your Notice of Award.

• All federal statutes and regulations relevant to federal financial assistance, including those highlighted in the HHS Administrative and National Policy Requirements (https://www.hhs.gov/sites/default/files/hhs-administrative-national-policy-requirements.pdf).

Reporting

If you are successful, you will have to submit financial and performance reports and possibly reports on specific types of activities. Your NoA will outline the specific requirements and deadlines. To learn more about reporting, see:

• Performance Progress Reports

• Progress Report Requirements

• Financial Reporting

If your award includes funds for a conference, you must submit a report for all conferences.

If you do not submit your reports on time, we could:

• Suspend or terminate your award

• Withhold payments

• Move you to a reimbursement payment method

• Withhold future awards

• Take other enforcement actions

• Impose special award conditions if the situation continues

Non-Discrimination and Assurance

If you receive an award, you must follow all applicable nondiscrimination laws. You agree to this when you register in SAM.gov. You must also submit an Assurance of Compliance (HHS-690) (https://www.hhs.gov/sites/default/files/form-hhs690.pdf). To learn more, see the Laws and Regulations Enforced by the HHS Office for Civil Rights (https://www.hhs.gov/civil-rights/for-providers/laws-regulations-guidance/laws/index.html).

VI. Contacts and Support

Agency Contacts

1. Program and Eligibility, Eric Pinto, Senior Program Specialist, Email: Eric.Pinto@ihs.gov, Phone: 301-443-2544.

2. Grants Management and Financial, DGM@ihs.gov.

Grants.gov

Grants.gov provides 24/7 support. You can call 1-800-518-4726 or email support@grants.gov. Hold on to your ticket number.

If problems persist, contact the Office of Grants Management at DGM@ihs.gov. Please do so at least 10 days before the application due date.

SAM.gov

If you need help, you can call 866-606-8220 or live chat with the Federal Service Desk (https://www.fsd.gov/gsafsd_sp).

GrantSolutions

For help, please contact the GrantSolutions help desk at 866-577-0771, or by email at help@grantsolutions.gov.

Reference Websites

• U.S. Department of Health and Human Services (HHS) (https://www.hhs.gov/)

• Division of Grants Management | Indian Health Service (IHS) (https://www.ihs.gov/dgm/index.cfm?module=dsp_dgm_funding)

• Grants Training Tools | Division of Grants Management (ihs.gov) (https://www.ihs.gov/dgm/training1/)

• Code of Federal Regulations (CFR) (https://www.ecfr.gov/)

• United States Code (U.S.C.) (https://uscode.house.gov/)

Roselyn Tso,
Director, Indian Health Service.

[FR Doc. 2024-05056 Filed 3-8-24; 8:45 am]

BILLING CODE 4166-14-P